DEPARTMENT OF COMMERCE

International Trade Administration

[A-570-848]

Freshwater Crawfish Tail Meat From the People's Republic of China: Preliminary Results of Antidumping Duty Administrative Review and Intent To Rescind Review in Part

Correction

In notice document 2011-26069 appearing on pages 62349 through 62356 in the issue of Friday, October 7, 2011 make the following correction:

On page 62349, in the second column, the subject heading should read as set forth above.

[FR Doc. C1-2011-26069 Filed 10-20-11; 8:45 am]

BILLING CODE 1505-01-D